DEPARTMENT OF ENERGY

Federal Energy Regulatory Commission

[Project No. 13499-000]

Lock + TM Hydro Friends Fund X, LLC; Notice of Preliminary Permit Application Accepted for Filing and Soliciting Comments, Motions To Intervene, and Competing Applications

August 7, 2009.

On June 2, 2009, Lock + TM Hydro Friends Fund X, LLC, filed an application, pursuant to section 4(f) of the Federal Power Act, proposing to study the feasibility of the Green Thunder Hydroelectric Project, to be located on the Ohio River, in Ballard County, Kentucky and Pulaski County, Illinois.

The proposed Green Thunder Project would be located at the U.S. Army Corps of Engineers (Corps) Olmstead Lock and Dam, which is presently under construction on the Ohio River, near Olmstead, Illinois. The newly constructed Olmstead Lock and Dam will extend in a south easterly direction across the Ohio River from Illinois to Kentucky.

Once the Corps dam is completed, the proposed Green Thunder Project would include facilities upstream and downstream of the dam and on the Illinois and Kentucky sides of the river. The proposed project would consist of: (1) Two new underwater frame modules containing nine turbines each with a total installed capacity of 36 megawatts; (2) a new pre-fabricated, concrete-lined, power canal that would transport water from above the dam to below the dam on the Kentucky side of the river and contain the two aforementioned turbine modules installed side by side; (3) a new switchyard, transformer, and control room which would be located on the Illinois side of the river; (4) a new transmission line, which would extend across the river from the turbines to an existing transformer tie-in located about 1,000 feet from the Corps' lock and dam facilities; and (5) appurtenant facilities. The Green Thunder Project would have an estimated average annual generation of 284,018 megawatts-hours, which would be sold to a local utility.

Applicant Contact: Mr. Wayne F. Krouse, Managing Partner, Lock+ Hydro Friends Fund X, 5090 Richmond Avenue #390, Houston, TX 77056, 877-556-6566 x709.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13499) in the docket number field to access the document. For assistance, call toll-free 1-866-208-3372.

Nathaniel J. Davis, Sr.,
Deputy Secretary.

[FR Doc. E9-19618 Filed 8-14-09; 8:45 am]

BILLING CODE 6717-01-P